DEPARTMENT OF THE TREASURY

Internal Revenue Service

Senior Executive Service Performance Review Board

AGENCY: Internal Revenue Service (IRS), Department of the Treasury.

ACTION: Notice.

SUMMARY: To announce a list of senior executives who comprise a standing roster that will serve on IRS's Fiscal Year 2025 Senior Executive Service (SES) Performance Review Boards.

DATES: This list is effective December 16, 2025.

FOR FURTHER INFORMATION CONTACT: Sharnetta A. Walton, Director, Office of Executive Services at (202) 317-3817 or Rachel Winningham, Deputy Director, Office of Executive Services at (202) 317-3823, IRS, 1111 Constitution Avenue NW, Washington, DC 20224.

SUPPLEMENTARY INFORMATION: Pursuant to 5 U.S.C. 4314(c)(4), this board shall review and evaluate the initial appraisals of career senior executives' performance and provide recommendations to the appointing authority on performance ratings, pay adjustments and performance awards. The senior executives are as follows:

Kenneth Kies, acting Chief Counsel

Kenneth Corbin, Chief Taxpayer Services

Kaschit Pandya, Chief Information Officer

Dottie Romo, Chief Operating Officer

This document does not meet the Treasury's criteria for significant regulations.

Sharnetta A. Walton,
Director, Office of Executive Services Internal Revenue Service.

[FR Doc. 2025-23328 Filed 12-18-25; 8:45 am]

BILLING CODE 4830-01-P